DEPARTMENT OF HEALTH AND HUMAN SERVICES

National Institutes of Health

National Cancer Institute; Amended Notice of Meeting

Notice is hereby given of a change in the meeting of the National Cancer Institute Special Emphasis Panel, March 7, 2012, 12:15 p.m. to March 7, 2012, 3:15 p.m., National Institutes of Health, 6116 Executive Boulevard, Room 707, Rockville, MD 20852 which was published in the Federal Register on January 26, 2012, 77 FR 4052.

This notice is being amended to change the title to “Post-Translationally Modified Proteins as Calibrators.” The meeting is closed to the public.

Dated: February 27, 2012.
Jennifer S. Spaeth,
Director, Office of Federal Advisory Committee Policy.

[FR Doc. 2012-5289 Filed 3-2-12; 8:45 am]

BILLING CODE 4140-01-P